DEPARTMENT OF LABOR

Veterans' Employment and Training Service

Homeless Veterans' Reintegration Program (HVRP) National Technical Assistance Center Cooperative Agreement(s) for Program Year (PY) 2007 Solicitation for Cooperative Agreement(s) Solicitation #07-08 Period of Performance is PY 2007, July 1, 2007 Through June 30, 2008

AGENCY: Veterans' Employment and Training Service, Department of Labor.

ACTION: Notice of funding availability.

DATES: Applications are due on May 14, 2007.

SUMMARY: (Applicants For a Cooperative Agreement Should Read This Notice In Its Entirety): The U.S. Department of Labor (USDOL), Veterans' Employment and Training Service (VETS), announces a cooperative agreement competition under 38 U.S.C. Section 2021, as added by Section 5 of Public Law 107-95, the Homeless Veterans Comprehensive Assistance Act of 2001 (HVCAA). Section 2021 authorizes programs to expedite the reintegration of homeless veterans into the labor force.

In order to assist the USDOL-VETS in carrying out 38 U.S.C. 2021, it is announcing the availability of funds for a cooperative agreement to assist in developing a National Technical Assistance Center (NTAC) for the Homeless Veterans' Reintegration Program (HVRP). The primary objective of the HVRP NTAC will be to provide general technical assistance on veterans' homelessness programs and issues to existing HVRP grantees (approximately 80 grantees nationwide), potential HVRP applicants, employers, Veterans Service Organizations, Federal, State, and local agency partners, non-profit organizations (including faith-based and community organizations), the general public, and other interested stakeholders. Successful applicant(s) will assist USDOL-VETS by providing general technical assistance and guidance to eligible HVRP entities relating to assistance for homeless veterans under the HVRP and related programs that assist homeless veterans.

Applicants will also be responsible for developing, conducting, and documenting extensive outreach efforts to national, state, and local employers to increase their awareness of HVRP and its objectives in order to increase job opportunities for homeless veterans. Applicants will also be responsible for assisting USDOL-VETS by contacting current HVRP grantees in order to extract, document, and share at least 20 best HVRP practices with other HVRP grantees and potential applicants. Finally, applicants will assist USDOL-VETS by conducting general research and studies as determined by USDOL-VETS.

Entities that are interested in assisting USDOL-VETS in providing technical assistance are to be aware that historically the HVRP annually receives thousands of nationwide inquiries via telephone, written correspondence, and e-mail concerning homeless veterans and HVRP in general. The awardee(s) will be responsible for answering 100 percent of these technical assistance inquiries.

Applicants are to be aware of and assist USDOL-VETS and their grantees in implementing the HVRP objectives: (1) To provide services to assist in reintegrating homeless veterans into meaningful employment within the labor force, and (2) to stimulate the development of effective service delivery systems that will address the complex problems facing homeless veterans.

Under this solicitation for cooperative agreement(s) covering Program Year (PY) 2007, VETS anticipates that up to $500,000 will be available for a cooperative agreement award(s) up to a maximum total award of $500,000. Depending on the quality and content of the applications received, USDOL-VETS expects to award one (1) to (2) cooperative agreements. This notice contains all of the necessary information and forms to apply for funding. The period of performance for this PY 2007 cooperative agreement(s) will be July 1, 2007 through June 30, 2008. Two (2) optional years of additional funding may be available, depending upon Congressional appropriations, the agency's decision to exercise the optional year(s) of funding, and awardee(s) satisfactory technical and financial performance.

I. Funding Opportunity Description

The U.S. Department of Labor (USDOL), Veterans' Employment and Training Service (VETS), announces a cooperative agreement competition under 38 U.S.C. Section 2021, as added by Section 5 of Public Law 107-95, the Homeless Veterans Comprehensive Assistance Act of 2001 (HVCAA). Section 2021 authorizes programs to expedite the reintegration of homeless veterans into the labor force. In order to assist the USDOL-VETS in carrying out 38 U.S.C. 2021, it is announcing the availability of funds for a cooperative agreement to assist in developing a National Technical Assistance Center (NTAC) for the Homeless Veterans' Reintegration Program (HVRP). The HVRP NTAC primary objective will to provide general technical assistance and guidance to existing HVRP grantees (approximately 80 grantees nationwide), potential HVRP applicants, employers, Veterans Service Organizations, Federal, State, and local agency partners, non-profit organizations (including faith-based and community organizations), the general public, and other interested stakeholders seeking information on veterans' homelessness programs, issues, concerns, and referrals for additional information and assistance.

This USDOL-VETS cooperative agreement(s) anticipates substantial involvement between USDOL-VETS and the awardee(s) during the performance of this project. Involvement will include collaboration and participation by USDOL-VETS in the overall direction of the project throughout the period of the award(s). The USDOL-VETS will provide expertise and guidance in decisions involving strategic planning (including development of a proactive plan to deliver technical assistance to existing HVRP grantees), allocation of resources, key personnel decisions, development and revision of public information materials, and analysis and implementation of evaluation findings.

1. Program Concept and Emphasis

In order to increase the quality and quantity of HVRP applications received, U.S. DOL-VETS will provide successful applicant(s) with general guidelines on how to gather and electronically disseminate technical assistance and guidance to eligible HVRP entities. In order to assist and increase capacity building of existing HVRP grantees, successful applicant(s) will be responsible for instructing and assisting current HVRP grantees on identifying additional funding resources for similar and/or complimentary homeless veterans programs.

Guidance will be provided to successful awardee(s) as they assist USDOL-VETS by developing, conducting, and documenting extensive outreach efforts to national, state, and local employers to increase their awareness of HVRP and its objectives in order to potentially increase job opportunities for homeless veterans.

Guidance will be provided to successful awardee(s) as they assist USDOL-VETS by interviewing current HVRP grantees (via face-to-face, telephone, written correspondence, or e-mail communications) in order to extract, document, publish, and share their best practices with other HVRP grantees and potential HVRP grantees.

Entities that are interested in assisting USDOL-VETS in providing technical assistance are to be aware that historically the HVRP receives several thousand nationwide inquiries yearly via telephone, written correspondence, and e-mail concerning homeless veterans and HVRP in general. The awardee(s) will be responsible for answering 100 percent of these technical assistance inquiries.

In order to provide timely information and updates, it is recommended that successful applicant(s) have an Internet-based Web site (or develop a website within 30 calendar days of receiving an award) with clearly stated information relative to homelessness, veterans, and homeless veterans' issues, concerns. Successful applicant(s) will plan to gather and electronically disseminate technical assistance information through this Web site and identify additional resources for assistance that can be readily assessed by current HVRP grantees, potential applicants, Veterans Service Organizations, non-profit organizations (including faith-based and community organizations), Federal, State, and local agency partners, the general public, and other interested stakeholders. USDOL-VETS will provide suggestions and guidance to the awardee(s) the structure and content of the website and will seek authorization to link to the successful awardee(s) webpage directly from the USDOL-VETS Web page at http://www.dol.gov/vets as a resource for HVRP technical assistance purposes.

Applicants are to assist USDOL-VETS in implementing the HVRP objectives: (1) To provide services to assist in reintegrating homeless veterans into meaningful employment within the labor force, and (2) to stimulate the development of effective service delivery systems addressing the complex problems facing homeless veterans.

2. Scope and Program Design

Successful applicants will assist U.S. DOL-VETS in improving the awareness of HVRP and increasing the quality of the general technical assistance provided to existing HVRP grantees. Successful applicants will assist U.S. DOL-VETS in providing outreach to national, state, and local employers for the purpose of increasing employer awareness of the HVRP and its objectives in order to increase job opportunities for homeless veterans. Successful applicants will assist USDOL-VETS by interviewing existing HVRP grantees in an effort to extract at least twenty (20) HVRP best practices and summarize their efforts in Word or WordPerfect format to be accessible at both the applicants and the U.S. DOL-VETS Web sites.

Successful applicant(s) must plan to support the travel and associated costs of sending at least one (1) representative to periodic meetings with USDOL-VETS staff in Washington, DC (at least twice per year). Successful applicant(s) will assist U.S. DOL-VETS by planning to attend and provide general HVRP information at conference(s) sponsored by the USDOL-VETS and other USDOL agency partners such as the Employment and Training Administration, the Office of Disability Employment Policy, Office of Faith-Based and Community Initiatives, and other federal agency partners such as the Department of Veterans' Affairs, Department of Housing and Urban Development, and Department of Health and Human Services, and various other social service provider organizations that target similar grantees that provide services to homeless persons, veterans, and homeless veterans.

II. Award Information

1. Type of Funding Instrument

Successful applicant(s) will be granted a one (1) year cooperative agreement award with optional funding for an additional two (2) years depending on successful performance and the availability of funds.

Note: Selection of an organization as an awardee(s) does not constitute final approval of the application and budget as submitted. Before or shortly after the actual cooperative agreement is awarded, USDOL may enter into negotiations about such items as program components, staffing, and funding levels, and administrative systems in place to support the cooperative agreement implementation. If the negotiations do not result in a mutually acceptable submission, the Grant Officer reserves the right to terminate the negotiation and decline to fund the application or terminate the award.

2. Funding Levels: The total funding available for this Cooperative Agreement(s) to assist USDOL-VETS in developing a National Technical Assistance Center for HVRP purposes is up to $500,000. Depending on the quality and content of the applications received, it is anticipated that one (1) or two (2) awards will be made under this solicitation. Awards are expected to range from $75,000 to a maximum of $500,000. The Department of Labor reserves the right to negotiate the amounts to be awarded under this competition. Please be advised that proposals will be evaluated in part on cost/value and that requests exceeding $500,000 will be considered non-responsive and will not be evaluated. If there are any residual programmatic funds, the Department of Labor reserves the right to select for funding the next highest scoring applicant(s) on the competitive list developed for this solicitation up to one (1) year after the initial performance period begins or June 30, 2008.

3. Period of Performance: The period of performance will be for the twelve (12) month period of July 1, 2007 to June 30, 2008, unless modified in writing by the Grant Officer. It is expected that successful applicant(s) will begin program operations under this solicitation on July 1, 2007. All program funds must be obligated by June 30, 2008; a limited amount of funds may be obligated and reserved for any follow-up activities and closeout.

4. Optional Year Funding: Should Congress appropriate additional funds for HVRP purposes, VETS may consider up to two (2) additional years of optional funding. The Government does not, however, guarantee optional year funding for any awardee(s). In deciding whether to exercise any optional year(s) of funding, VETS will consider awardee(s) performance during the previous period of operations as follows:

A. The awardee(s) will be responsible for providing timely responses (within 5 working days) to at least 85% of all the technical assistance inquiries received and within 10 working days for the remaining 15% of inquiries received.

B. The awardee(s) must have complied with all terms identified in the Solicitation for Cooperative Agreement(s), award document, and General and Special Provisions; and

C. All program and fiscal reports must have been submitted to the Grant Officer Technical Representative by the established due dates and the awardee(s) must verify these reports for accuracy purposes.

III. Eligibility Information

1. Eligible Applicants: Applications for funds will be accepted from non-profit organizations, including faith-based and community organizations.

• If claiming 501(c)(3) status, the Internal Revenue Service statement indicating 501(c)(3) status approval must be submitted.

• However, entities organized under Section 501(c)(4) of the Internal Revenue Code are not eligible to receive funds under this announcement. Section 18 of the Lobbying Disclosure Act of 1995, Public Law 104-65, 109 Stat. 691 (2 U.S.C. 1611) prohibits instituting an award, grant, or loan of federal funds to 501(c)(4) entities that engage in lobbying.

2. Cost Sharing: Cost sharing and matching funds are not required.

3. Other Eligibility Criteria

Legal rules pertaining to inherently religious activities by organization that receive Federal Financial Assistance. Neutral, non-religious criteria that neither favor nor disfavor religion will be employed in the selection of award recipient(s) and must be employed by awardee(s). The government is generally prohibited from providing direct financial assistance for inherently religious activities. These award funds may not be used for religious instruction, worship, prayer, proselytizing or their inherently religious activities. In this context, the term direct financial assistance means financial assistance that is provided directly by a government entity or an intermediate organization, as opposed to financial assistance that an organization receives as the result of the genuine and independent private choice of a beneficiary. In other contexts, the term “direct” financial assistance may be used to refer to financial assistance that an organization receives directly from the Federal government (also known as “discretionary” assistance), as opposed to assistance that it receives from a State or local government (also known as “indirect” or “block” grant assistance). The term “direct” has the former meaning throughout this paragraph.

IV. Application and Submission Information

1. Address to Request an Application and Amendments: This Solicitation for Cooperative Agreement(s), together with its attachments, includes all the information needed to apply. Additional application packages and amendments to this solicitation may be obtained from the VETS Web site address at http://www.dol.gov/vets, the Federal Grant Opportunities Web site address at http://www.grants.gov, and from the Federal Register Web site address at http://www.gpoaccess.gov/fr/index.html. The Federal Register may also be obtained from your nearest government office or library. Additional copies of the standard forms can be downloaded from: http://www.whitehouse.gov/omb/grants/grants_forms.html.

All applications must be addressed to: Department of Labor, Procurement Services Center, Attention: Cassandra Mitchell, Reference Solicitation #07-08, 200 Constitution Avenue, NW., Room S-4307, Washington, DC 20210, Phone Number: (202) 693-4570 (this is not a toll-free number).

• Applicants are encouraged to apply online at www.grants.gov. Applicants submitting proposals online are requested to refrain from mailing a hard copy application as well. It is strongly recommended that applicants using www.grants.gov immediately initiate and complete the “Get Started” registration steps at http://www.grants.gov/GetStarted. These steps may take multiple days to complete, and this time should be factored into plans for electronic submission in order to avoid facing unexpected delays that could result in the rejection of an application. If submitting electronically through www.grants.gov it would be appreciated if the application submitted is saved as .doc, .pdf, or .txt files.

• Except as provided in Section IV.3., any application received after the deadline will be considered as non-responsive and will not be evaluated.

2. Content and Form of Application: The application must include the name, address, telephone number, fax number, and e-mail address (if applicable) of a key contact person at the applicant's organization in case questions should arise. To be considered responsive to this solicitation the application must consist of three (3) separate and distinct sections: the Executive Summary, the Technical Proposal, and the Cost Proposal. The information provided in these three (3) sections is essential to demonstrate an understanding of the programmatic and fiscal contents of the cooperative agreement proposal(s).

A complete application packages must not exceed 50 single-sided pages (8½″ × 11″), double-spaced, 12-point font, typed pages (all attachments are included in the 50 page maximum). Any pages over the 50-page limit will not be read or evaluated. Major sections and sub-sections of the application must be divided and clearly identified (e.g. with tab dividers), and all pages must be numbered. To be considered responsive, cooperative agreement applications must include:

• An original, blue ink-signed, and two (2) copies of the cover letter.

• An original and two (2) copies of the Executive Summary (see below).

• An original and two (2) copies of the Technical Proposal [see below]

• An original and two (2) copies of the Cost Proposal (see below) that includes an original, blue ink-signed, Application for Federal Assistance, SF-424 (Appendix A), a Budget Narrative, Budget Information Sheet SF-424A (Appendix B), an original, blue ink-signed, Assurances and Certifications Signature Page (Appendix C), a Direct Cost Description for Applicants and Sub-applicants (Appendix E), a completed Survey on Ensuring Equal Opportunity for Applicants (Appendix F), and the applicant's specific financial and/or audit statement dated within the last 18 months (audit and financial statements do not count towards the 50 page limitation).

A. Section 1—Executive Summary: A one to two page “Executive Summary” reflecting the applicant's proposed overall strategy, timeline, and outcomes to be achieved in their cooperative agreement proposal is required. The Executive Summary should include:

• An overview of the applicant's proposed plan to assist U.S. DOL-VETS in implementing a nation-wide technical assistance strategy and employer outreach effort, program design, process, methods, and proposed projects in providing technical assistance and information to various entities.

• The applicant's experience in providing technical assistance and guidance on a nation-wide basis to assist homeless veterans or a similar group of persons.

• Describe the measures of success for the plan. A summary of anticipated outcomes, goals, number of technical assistance responses provided, outreach methods, number of employers provided HVRP information, customers served, cost effectiveness, results-oriented model, benefits, and value added by the project.

B. Section 2—Technical Proposal must not exceed 15 pages of single-sided 12-pitch font and one inch left, right, top, and bottom margins and does count towards the 50 page maximum.

Required Content: Applicants must be responsive to the Rating Criteria contained in Section V(1) and address all of the rating factors as thoroughly as possible in the narrative in order to be found technically acceptable under this solicitation. The technical proposal consists of a narrative proposal that demonstrates and describes the methodologies used in assisting U.S. DOL-VETS in implementing and managing technical assistance provided for HVRP purposes; in extracting, gathering, documenting, and publicizing twenty (20) HVRP grantee best practices; in assisting USDOL-VETS by developing and implementing a nation-wide employer outreach component to inform employers about HVRP in order to increase employment opportunities for homeless veterans. Applicants will indicate their availability and capability to assisting USDOL-VETS by conducting general research and studies as determined by USDOL-VETS.

The applicant(s) must describe: Organizational capability to provide required program activities including: key staff skills, experience, biographies, history, knowledge, qualifications, and capabilities; office locations, and organizational chart providing similar information. It is preferred that the awardee(s) be a well-established social service provider to veterans, homeless individuals, homeless veterans, or other similar type participants and not in the initial start-up phase or process. The applicant's relevant current and prior experience (within the last three-year period) in operating technical assistance grants, cooperative agreements, and/or contracts is to be clearly described, if applicable.

Measures of Success—Applicants must describe the measures of success for the proposed plan. Applicants must describe their proposed outcomes, goals, number served, result-oriented model, feedback mechanism, performance accountability, evaluation and improvement, and the proposed system to monitor the implementation of program activities and achievement of stated project objectives.

C. Section 3—The Cost Proposal must contain the following: Applicants can expect that the cost proposal will be reviewed to ensure that the costs proposed are allocable, allowable, and reasonable. The cost proposal must contain:

(1) Standard Form SF-424, “Application for Federal Assistance” (with the original signed in blue-ink) (Appendix A) must be completed;

The Catalog of Federal Domestic Assistance number for this program is 17.805 and it must be entered on the SF-424, in Block 11.

The organizational unit section of Block 8 of the SF-424 must contain the Dun and Bradstreet Number (DUNS) of the applicant. Beginning October 1, 2003, all applicants for Federal funding opportunities are required to include a DUNS number with their application. See OMB Notice of Final Policy Issuance, 68 FR 38402 (June 27, 2003). Applicants' DUNS number is to be entered into Block 8 of SF-424. The DUNS number is a nine-digit identification number that uniquely identifies business entities. There is no charge for obtaining a DUNS number. To obtain a DUNS number call 1-866-705-5711 or access the following Web site: http://www.dunandbradstreet.com/. Requests for exemption from the DUNS number requirement must be made to the Office of Management and Budget. If no DUNS number is provided then the application will be considered non-responsive.

(2) Standard Form SF-424A “Budget Information Sheet” (Appendix B) must be included;

(3) As an attachment to SF-424A, the applicant must provide a detailed cost breakout of each line item on the Budget Information Sheet. Please label this page or pages the “Budget Narrative” and ensure that costs reported on the SF-424A correspond accurately with the Budget Narrative;

The Budget Narrative must include, at a minimum:

• Personnel Costs—Applicants must provide a breakout of all personnel costs by position, title, annual salary rates, and percent of time of each position to be devoted to the proposed project by completing the “Direct Cost Descriptions for Applicants and Sub-Applicants” form (Appendix E);

• Fringe Benefits—Applicants must provide an explanation and breakout of fringe benefit rates and associated charges that exceed 35% of salaries and wages;

• Explanation of Costs and Methodologies—Applicants must provide an explanation of the purpose and composition of, and methodology used to derive the costs of each of the following: Personnel costs, fringe benefits, travel, equipment, supplies, contracts, and any other costs. The applicant must include costs of any required travel described in this Solicitation. Planned travel expenditures may not exceed 20% of the total HVRP funds requested. Mileage charges may not exceed 48.5 cents per mile or the current Federal rate;

• Equipment Purchases—Applicants must provide a description/specification of, and justification for, equipment purchases, if any. Tangible, non-expendable, personal property having a useful life of more than one year and a unit acquisition cost of $5,000 or more per unit must be specifically identified.

• Other Funds—Applicants must describe other funding sources to include matching funds, leveraged funds, and in-kind services. Matching funds are not required for this HVRP-NTAC cooperative agreement(s). When resources such as matching funds, leveraged funds, and/or the value of in-kind contributions are made available, please describe in Section B of the Budget Information Sheet.

(4) A completed Assurance and Certification signature page (Appendix C) (signed in blue ink) must be submitted;

(5) A completed Direct Cost Descriptions for Applicants and Sub-Applicants (Appendix D) must be submitted;

(6) All applicants must submit evidence of satisfactory financial management capability, which must include recent (within the last 18 months) program-specific financial and/or audit statements (does not count towards the 50 page limitation). All successful awardee(s) are required to utilize Generally Accepted Accounting Practices (GAAP), maintain a separate accounting for these cooperative agreement funds, and have a checking account;

(7) All applicants must include, as a separate appendix, a list of all employment and training related government grants, cooperative agreements, and contracts that they have had in the past three (3) years, including grant/contract officer contact information. VETS reserves the right to have a USDOL representative review and verify this data;

(8) A completed Survey on Ensuring Equal Opportunity for Applicants (Appendix F) must be provided.

3. Submission Dates and Times (Acceptable Methods of Submission): Application packages must be received at the designated place by the date and time specified or it will not be considered. Any application received at the Office of Procurement Services after 5 p.m. ET, May 14, 2007, will not be considered unless it is received before the award is made and:

• It is determined by the Government that the late receipt was due solely to mishandling by the Government after receipt at the U.S. Department of Labor at the address indicated; or

• It was sent by registered or certified mail not later than the fifth calendar day before May 14, 2007; or

• It was sent by U.S. Postal Service Express Mail Next Day Service—Post Office to Addressee, not later than 5 p.m. at the place of mailing two (2) working days, excluding weekends and Federal holidays, prior to May 14, 2007.

The only acceptable evidence to establish the date of mailing of a late application sent by registered or certified mail is the U.S. Postal Service postmark on the envelope or wrapper and on the original receipt from the U.S. Postal Service. If the postmark is not legible, an application received after the above closing time and date will be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper. Applications cannot be accepted by e-mail or facsimile machine.

The only acceptable evidence to establish the date of mailing of a late application sent by U.S. Postal Service Express Mail Next Day Service—Post Office to Addressee is the date entered by the Post Office clerk on the “Express Mail Next Day Service—Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by other delivery services, such as Federal Express, UPS, etc., will also be accepted.

All applicants are advised that U.S. mail delivery in the Washington, DC area has been erratic due to security concerns. All applicants must take this into consideration when preparing to meet the application deadline, as you assume the risk for ensuring a timely submission, that is, if, because of these mail problems, the Department does not receive an application or receives it too late to give proper consideration, even if it was timely mailed, the Department is not required to consider the application.

4. Intergovernmental Review: Not Applicable.

5. Funding Restrictions:

A. Proposals exceeding $500,000 will be considered non-responsive and will not be evaluated.

B. Pre-award costs will not be reimbursed unless specifically agreed upon in writing by the Department of Labor.

C. Entities described in Section 501(c)(4) of the Internal Revenue Code that engage in lobbying activities are not eligible to receive funds under this announcement because Section 18 of the Lobbying Disclosure Act of 1995, Public Law No. 104-65, 109 Stat. 691, prohibits the award of Federal funds to these entities.

D. Limitations on Administrative and Indirect Costs

• Administrative costs, which consist of all direct and indirect costs associated with the supervision and management of the program, are limited to and may not exceed 20% of the total cooperative agreement award. Indirect costs claimed by the applicant must be based on a federally approved rate. A copy of the current negotiated approved and signed indirect cost negotiation agreement must be submitted with the application. Furthermore, indirect costs are considered a part of administrative costs for HVRP purposes and, therefore, may not exceed 20% of the total cooperative agreement award. If the applicant does not presently have an approved indirect cost rate, a proposed rate with justification may be submitted. Successful applicants will be required to negotiate an acceptable and allowable rate within 90 days of cooperative agreement award with the appropriate USDOL Regional Office of Cost Determination or with the applicant's cognizant agency for indirect cost rates (See Office of Management and Budget Web site at: http://www.whitehouse.gov/omb/grants/attach.html.

V. Application Review Information

Cooperative Agreement applications will be evaluated on the applicant's capability to perform the work, technical approach, individual staff experience and qualifications, and applicant's past performance as described below in Section V.1. Based on these evaluations, a Competitive Range consisting of the most highly rated proposals will be established.

Applicants are advised that the Grant Officer will make the selection of award(s) for a cooperative agreement after a careful evaluation of the proposals by a panel of evaluators chosen by USDOL-VETS and the Grant Officer. Each panelist will evaluate the proposals for technical acceptability using a range of scores assigned to each factor as described below in Section V.1. The scores for each area in Section V.I. below will then be added and ranked in numerical order. The grant review panel will score each applicant's proposal based on the grant applicant's responses to the overall requirements as outlined in this Solicitation for Cooperative Agreement(s) and the selection criteria in Section V.I., and recommend a proposal(s) based on the highest score.

1. Application Evaluation Criteria: Applications may receive up to 100 total points based on the following criteria:

A. Applicant's Overall Plan and Capability to assist USDOL-VETS by developing and maintaining a HVRP National Technical Assistance Center under a Cooperative Agreement (30 points)

The Government will evaluate each applicant's overall plan and capability to assist USDOL-VETS by developing and maintaining a HVRP National Technical Assistance Center on the basis of its proposed strategy for providing technical assistance on a nation-wide or similar basis. In making this evaluation, the government will consider an applicant's: (1) Knowledge of the content of the work in terms of constituent activities, their inputs and outputs, and their interrelationships and interdependencies; (2) recognition of the appropriate sequence and realistic duration of the work activities; (3) knowledge of the appropriate types of resources required to perform the work activities; (4) familiarity with the difficulties, uncertainties, and risks associated with the work; and (5) knowledge of the personnel qualifications necessary to the performance of the work.

B. Technical Approach (25 points).

The applicant's technical approach should reflect a clear understanding of the HVRP program and innovative approaches in assisting the USDOL-VETS in successful accomplishment of all phases of this Solicitation for Cooperative Agreement(s), specifically, operational plan, design, implementation, project management and monitoring, and reporting. The applicant should demonstrate a clear understanding of each phase, task, and subtask.

The Government will evaluate the applicant's knowledge and ability, based upon a clear understanding and articulation of the components of the HVRP, to assist U.S. DOL-VETS in promoting awareness of the HVRP in a positive, knowledgeable manner to other social service providers, local, state, and national employers, as well as to the general public. Applicants must provide a description of approaches (with examples) that the applicant would use in assisting U.S. DOL-VETS in developing and implementing a National Technical Assistance Center for HVRP purposes. The applicant must demonstrate active communications and strong relationships with other organizations providing services to veterans and homeless veterans or other similar type group of persons.

The Government will review the following factors:

• The applicant's proposed work plan addresses all of the tasks and subtasks listed in this Solicitation for Cooperative Agreement(s).

• The applicant's proposed sequencing, scheduling, and timely completion of tasks/subtasks by phases demonstrates an understanding of the objectives and the applicant's critical role in assisting the government in implementation of the HVRP objectives.

• The applicants' understanding of its role in assisting USDOL-VETS in providing general technical assistance and guidance to HVRP grantees, potential applicants, Veterans Service Organizations, non-profit organizations (including faith-based and community organizations), other federal agencies, the general public, and other interested stakeholders.

• The applicant's understanding of its role in relation to parties other than USDOL-VETS federal and contractor staff, i.e., employers, organizations that support veterans, State Workforce Agencies, the Disabled Veterans' Outreach Program and Local Veterans' Employment Representative staff, Workforce Development programs, and other USDOL-VETS contractors and consultants.

C. Individual Staff Experience and Qualifications (25 points).

This section of the proposal must provide sufficient information to judge the quality and competence of staff proposed to assist USDOL-VETS in developing and maintaining the National Technical Assistance Center for HVRP purposes and to assure that it meets the required qualifications. Successful applicants will have staff that already possess (or are capable of acquiring within a short time period) knowledge of homeless veterans, the HVRP program, and other related programs for veterans and homeless veterans (such as: The Department of Veterans Affairs Grants and Per Diem Programs, Department of Housing and Urban Development grant programs and their Continuums of Care, Stand Down Events, etc.). The proposal must include the current employment status of personnel proposed to work under this cooperative agreement, i.e., whether these personnel are currently employed by the applicant or whether their employment is dependent upon award and planned recruitment.

The Government, in its evaluation of the applicant's proposal, will place considerable emphasis on the applicant's commitment of personnel qualified for the work involved in accomplishing the assigned tasks. Accordingly, the following information must be furnished:

1. The names of the proposed Project Director and other staff to be assigned under this Cooperative Agreement;

2. A resume for all professional personnel which must include the individual's current employment status and previous work experience, including position title, dates in position, duties performed, employing organization, education, and training.

D. Applicant's Past Performance (20 Points).

Successful applicants must describe their past experience in providing technical assistance on a nation-wide basis (or similar basis) concerning the homeless veteran population, the HVRP program, Stand Down Events, and/or other similar type programs for veterans and homeless veterans or other similar type persons. Applicants must describe their role, duties, and responsibilities and to what extent they were involved in providing technical assistance on a nation-wide (or similar basis) on programs for veterans, homeless veterans, or other similar type persons. The application review panel and the Grant Officer will determine the relevance and extent of past performance information provided by each applicant.

2. Review and Selection Process

Applications will be reviewed by a Department of Labor application review panel using the point scoring system specified above in Section V(1). The application review panel will assign a score after objectively and carefully evaluating each responsive application and all responsive applications will be ranked based on this score. The ranking will be the primary means of identifying applicants as potential awardee(s). The application review panel will establish a competitive range, based upon the proposal evaluation, for the purpose of selecting qualified applicants. For this solicitation, the minimum acceptable score for consideration is 70, but the competitive range may be set higher.

The Grant Officer will make a final selection based on the application review panel findings and application scores. The application review panel's findings and recommendations are solely advisory in nature and not binding on the Grant Officer.

A cost realism analysis will be performed by the application review panel. The purpose of this analysis is to screen all applicant cost proposals to ensure expenses are allocable, allowable, and reasonable. Determinations of allowable costs will be made in accordance with the applicable Federal cost principles, e.g., Non-Profit Organizations—OMB Circular A-122. Unallowable costs are those charges to an award that a grantor agency or its representatives determine are not to be allowed in accordance with the applicable Federal Cost Principles or other conditions contained in the cooperative agreement award. If the application review panel concludes that the cost proposal contains an expense(s) that is not allocable, allowable, and/or reasonable, they will inform the Grant Officer and he/she may request a revision to the application.

The Government reserves the right to ask the applicant for clarification on any aspect of the cooperative agreement application. The Grant Officer may consult with Department of Labor staff on any potential awardee(s) concerns. The Grant Officer's determination for award under this solicitation is the final agency action.

Anticipated Announcement and Award Dates

Announcement of this award is expected to occur by June 20, 2007. The cooperative agreement(s) will be awarded by no later than July 1, 2007.

VI. Award Administration Information

1. Award Notices

A. The Notice of Award signed by the Grant Officer is the authorizing document and will be provided through postal mail and/or by electronic means to the authorized representative listed on the SF-424 Application for Federal Assistance. Notice that an organization has been selected as an award recipient does not constitute final approval of the application and budget as submitted. Before the actual cooperative agreement award, the Grant Officer and/or the Grant Officer's Technical Representative may enter into negotiations concerning such items as program components, funding levels, and administrative systems. If the negotiations do not result in an acceptable submittal, the Grant Officer reserves the right to terminate the negotiation and decline to fund the proposal.

B. A post-award conference will be held within forty-five (45) days of the cooperative agreement award(s) in Washington, DC with the USDOL-VETS Grant Officer Technical Representative. The associated travel costs for this one (1) day meeting is to be included as a part of the applicant's budget proposal. Both program and administrative matters will be reviewed and discussed.

Successful cooperative agreement awardee(s) are required to budget and plan to attend the post-award conference for all grantees awarded PY 2007 HVRP funds through another competition under SGA #07-07 and for those HVRP grantees awarded second and third optional year funding. The applicant(s) awarded a cooperative agreement to assist the USDOL-VETS in developing and maintaining the National Technical Assistance Center for HVRP purposes must attend and participate in the National HVRP Post-Award Training Conference that is expected to be held in August 2007. The site of the National HVRP Post-Award Training Conference has not yet been determined, however, for planning and budgeting purposes, applicants should allot four (4) days and use Denver, CO as the potential conference site. The successful awardee(s) are to propose a plan to develop and deliver specific training, with prior USDOL-VETS approval, at the National HVRP Post-Award Training Conference. Costs associated with attending this conference for up to three (3) awardee representatives will be allowed as long as they are incurred in accordance with Federal travel regulations.

2. Administrative and National Policy Requirements

All awardee(s) must comply with the provisions of Title 38 U.S.C. and its regulations, as applicable.

A. Administrative Program Requirements

All awardee(s), including faith-based organizations, will be subject to applicable Federal laws (including provisions of appropriations law), regulations, and the applicable Office of Management and Budget (OMB) Circulars. The successful awardee(s) under this Solicitation for a Cooperative Agreement will be subject to the following administrative standards and provisions, if applicable:

• 29 CFR part 2—General Participation in Department of Labor Programs by Faith-Based and Community Organizations; Equal Treatment of All Department of Labor Program Participants and Beneficiaries.

• 29 CFR part 30—Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs or Activities Receiving Federal Financial Assistance.

• 29 CFR part 33—Enforcement of Nondiscrimination on the Basis of Handicap in Programs or Activities Conducted by the Department of Labor.

• 29 CFR part 35—Nondiscrimination on the Basis of Age in Programs and Activities Receiving Federal Financial Assistance from the Department of Labor.

• 29 CFR part 36—Nondiscrimination on the Basis of Sex in Education Programs or Activities Receiving Federal Assistance.

• 29 CFR part 37—Implementation of the Nondiscrimination and Equal Opportunity Provisions of the Workforce Investment Act of 1998.

• 29 CFR part 93—New Restrictions on Lobbying.

• 29 CFR part 94—Government-wide Requirements for Drug-Free Workplace (Financial Assistance).

• 29 CFR part 95—Grants and Agreements with Institutions of Higher Education, Hospitals, and other Non-Profit Organizations, and with Commercial Organizations.

• 29 CFR part 96—Audit Requirements for Grants, Contracts and Other Agreements.

• 29 CFR part 98—Government-wide Debarment and Suspension (Non procurement).

• 29 CFR part 99_Audit of States, Local Governments, and Non-Profit Organizations.

• Applicable cost principles and audit requirements under OMB Circulars A-21, A-87, A-110, A-122, A-133, and 48 CFR part 31.

• In accordance with Section 18 of the Lobbying Disclosure Act of 1995, Public Law 104-65 (2 U.S.C. 1611), non-profit entities incorporated under 501(c)(4) that engage in lobbying activities are not eligible to received Federal funds and grants.

• 38 U.S.C. 4215—Requirements for priority of service for veterans in all Department of Labor training programs.

3. Reporting and Monitoring—USDOL-VETS is responsible for ensuring the effective implementation of this Cooperative Agreement, in accordance with the provisions of this announcement and the terms of the Cooperative Agreement award document. The awardee(s) must fully cooperate with USDOL-VETS staff while they conduct periodic on-site project reviews. Reviews will focus on timely project implementation, performance in meeting the Cooperative Agreement's objectives, tasks and responsibilities, expenditure of funds on allowable activities, and overall administration of project activities. The awardee(s) must agree to fully cooperate with monitoring personnel and make available performance and financial records on all parts of project activity, including participant employment and wage data, and to provide access to personnel, as specified by the Grant Officer Technical Representative.

The awardee(s) will be required to submit periodic financial and programmatic accomplishment reports to their respective Grant Officer Technical Representative (GOTR) as described below:

A. Quarterly Financial Reports

No later than 30 days after the end of each Federal fiscal quarter (October 30th, January 30th, April 30th, and July 30th) the awardee(s) must report outlays, program income, and other financial information on a Federal fiscal quarterly basis using SF-269, Financial Status Report, and submit a copy of the HHS/PMS 272 draw down report to their GOTR. These required quarterly financial reports must cite the assigned grant number and be electronically submitted to the Department of Labor's E-Grants Reporting System.

B. Quarterly Program Reports

No later than 30 days after the end of each Federal fiscal quarter (October 30th, January 30th, April 30th, and July 30th) awardee(s) must submit a Quarterly Technical Narrative Performance Report to the GOTR that contains the following:

(1) A comprehensive description of actual technical assistance and employer outreach activities conducted and the status of progress on identifying and drafting twenty (20) HVRP grantee best practices as compared to the planned goals for the reporting period;

(2) An explanation for variances of plus or minus 15% of planned program and/or expenditure goals, to include: Identification of corrective action that will be taken to meet the planned goals, if required; and a timetable for accomplishment of the corrective action.

These quarterly technical performance reports must cite the assigned grant number and may be submitted to the GOTR electronically via e-mail.

C. 90-Day Final Report

An outline of the final report is due to the GOTR forty-five (45) days prior to the expiration of the cooperative agreement (May 15th) before the expiration of the (each) period of performance. No later than 120 days after the (each) period of performance (October 30th), the awardee(s) must submit a final narrative technical performance report to their Grant Officer Technical Representative showing results and performance as of the 90th day after the award period, and containing the following:

(1) Final Financial Status Report SF-269 data entered into the Department of Labor's E-grants reporting system (that zeros out all unliquidated obligations); and

(2) Final Technical Performance Report that describes the outcomes, technical assistance provided, employer outreach activities conducted as compared to the planned activities, the final twenty (20) HVRP grantee best practices document in Word or .pdf format (if not provided earlier), and a narrative description of the overall activities performed, lessons learned, and recommendations for programmatic improvement(s).

The final financial and technical performance reports must cite the assigned grant number and may be submitted to the Grant Officer Technical Representative electronically via e-mail.

Agency Contact: All questions regarding this solicitation should be directed to Cassandra Mitchell, e-mail address: mitchell.cassandra_dol.gov, at telephone number: (202) 693-4570 (note this is not a toll-free number). To obtain further information on the Homeless Veterans' Reintegration Program of the U.S. Department of Labor, visit the USDOL-VETS Web site at http://www.dol.gov/vets. Individuals with hearing impairments may call 1-800-670-7008 (TTY/TDD).

VII. Other Information

A. Acknowledgement of USDOL Funding

1. Printed Materials: In all circumstances, the following must be displayed on printed materials prepared by the awardee(s) while in receipt of USDOL funding: “Preparation of this item was funded by the United States Department of Labor under Grant No. [insert the appropriate grant number].”

• All printed materials must also include the following notice: “This document does not necessarily reflect the views or policies of the U.S. Department of Labor, nor does mention of trade names, commercial products, or organizations imply endorsement by the U.S. Government.”

2. Public references to cooperative agreement award(s): When issuing statements, press releases, requests for proposals, bid solicitations, and other documents describing projects or programs funded in whole or in part with Federal money, all awardees receiving Federal funds must clearly state:

• The percentage of the total costs of the program or project, which will be financed with Federal money;

• The dollar amount of Federal financial assistance for the project or program; and

• The percentage and dollar amount of the total costs of the project or program that will be financed by non-governmental sources.

B. Use of USDOL Logo: In consultation with USDOL, VETS, the awardee(s) must acknowledge USDOL's role as described below:

• The USDOL logo may be applied to USDOL-funded material prepared for distribution, including posters, videos, pamphlets, research documents, national survey results, impact evaluations, best practice reports, and other publications of global interest. The awardee(s) must consult with USDOL on whether the logo may be used on any such items prior to final draft or final preparation for distribution. In no event will the USDOL logo be placed on any item until USDOL has given the awardee(s) permission to use the logo on the item.

• All documents must include the following notice: ``This documentation does not necessarily reflect the views or policies of the U.S. Department of Labor, nor does mention of trade names, commercial products, or organizations imply endorsement by the U.S. Government.''

C. OMB Information Collection No. 1205-0458, Expires September 30, 2009. According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Cassandra Mitchell, 200 Constitution Avenue, NW., Room S-4307, Washington, DC 20210.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Resources for the Applicant: The Department of Labor maintains a number of Web-based resources that may be of assistance to applicants. The Web page for the USDOL-VETS at http://www.dol.gov/vets/programs/main.htm is a valuable source of information including the program highlights and brochures, glossary of terms, frequently used acronyms, general and special provisions, power point presentations on how to apply for HVRP funding, On-Site Monitoring Visits, etc. The Interagency Council on Homeless at Web page http://www.ich.gov has information from various departments that assist homeless persons including updated information on local community ten (10) year plans to end homelessness and continuum of care plans. Applicants may also review “VETS' Guide to Competitive and Discretionary Grants” located at Web page http://www.dol.gov/vets/grants/Final_VETS_Guide-linked.pdf. For a basic understanding of the application process and basic responsibilities of receiving Federal funds, please see “Guidance for Faith-Based and Community Organizations on Partnering with the Federal Government” at Web pages http://www.whitehouse.gov/government/fbci and http://www.dol.gov/cfbci.

Appendices: (Located on U.S. Department of Labor, Veterans' Employment and Training Service Web page http://www.dol.gov/vets follow link for the applicable solicitation listed under announcements).

Appendix A: Application for Federal Assistance SF-424.

Appendix B: Budget Information Sheet SF-424A.

Appendix C: Assurances and Certifications Signature Page.

Appendix D: Direct Cost Descriptions for Applicants and Sub-Applicants.

Appendix E: Survey on Ensuring Equal Opportunity for Applicants.

Lisa Harvey,
Grant Officer.

[FR Doc. E7-7027 Filed 4-12-07; 8:45 am]

BILLING CODE 4510-79-P